DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 2, 2007.

Interested persons are invited to submit written comments regarding the subject matter of the investigations to the Director, Division of Trade Adjustment Assistance, at the address shown below, not later than January 2, 2007.

The petitions filed in this case are available for inspection at the Office of the Director, Division of Trade Adjustment Assistance, Employment and Training Administration, U.S. Department of Labor, Room C-5311, 200 Constitution Avenue, NW., Washington, DC 20210.

Signed at Washington, DC, this 14th day of December 2006.
Linda G. Poole,
Certifying Officer, Division of Trade Adjustment, Assistance.

Appendix—TAA
[Petitions instituted between 12/4/06 and 12/8/06]
TA-W | Subject firm (petitioners) | Location | Date of institution | Date of petition
60521 | P.H. Precision products Corp. (Comp) | Pembroke, NH | 12/04/06 | 11/28/06
60522 | Michaels of Oregon (Comp) | Meridian, ID | 12/04/06 | 12/01/06
60523 | Brunswick Family Boat Group (Comp) | Cumberland, MD | 12/04/06 | 12/01/06
60524 | Eaton Paperboard Converters (Wkrs) | Booneville, MS | 12/04/06 | 11/27/06
60525 | Special Tool (Wkrs) | Fraser, MI | 12/04/06 | 11/29/06
60526 | Hardwick Knitted Fabrics, Inc. (Comp) | West Warren, MA | 12/04/06 | 11/30/06
60527 | Anchor Danley/Danley IEM, LLC (Comp) | Cleveland, OH | 12/04/06 | 11/13/06
60528 | Sherwood Harsco (UAW) | Niagara Falls, NY | 12/04/06 | 11/28/06
60529 | Hospira, Inc. (Comp) | Rocky Mount, NC | 12/05/06 | 12/04/06
60530 | Tower Automotive, Inc. (Comp) | Upper Sandusky, OH | 12/05/06 | 12/05/06
60531 | Intelliden, Inc. (Wkrs) | Colorado Springs, CO | 12/05/06 | 11/29/06
60532 | Auburn Apparel, Inc. (Comp) | Auburn, PA | 12/05/06 | 12/06/06
60533 | International Filing Company (Wkrs) | Waukegan, IL | 12/05/06 | 12/04/06
60534 | Ceramaspeed, Inc. (State) | Maryville, TN | 12/05/06 | 12/04/06
60535 | Broyhill Lenoir Furniture Corp. (Comp) | Lenoir, NC | 12/05/06 | 12/04/06
60536 | Accotex, Inc. (Comp) | Mauldin, SC | 12/05/06 | 12/04/06
60537 | Plastex Extruders, Inc. USA (Comp) | Fort Payne, AL | 12/05/06 | 12/01/06
60538 | Hipwell Manufacturing Co. (Wkrs) | Pittsburgh, PA | 12/05/06 | 12/04/06
60539 | Moll Industries, Inc. (Wkrs) | New Braunfels, TX | 12/05/06 | 12/05/06
60540 | Lundia Division of MII, Inc. (Union) | Jacksonville, IL | 12/05/06 | 12/01/06
60541 | Siemens VDO (IBT) | Elkhart, IN | 12/06/06 | 12/04/06
60542 | GreatBatch Hittman (State) | Columbia, MD | 12/06/06 | 12/05/06
60543 | Edscha Jackson (Comp) | Jackson, MI | 12/06/06 | 12/05/06
60544 | Schiffer Dental Care Products, LLC (Comp) | Agawam, MA | 12/06/06 | 12/05/06
60545 | NICE Systems, Inc. (Wkrs) | Shelton, CT | 12/06/06 | 12/05/06
60546 | Phillips Diversified Mfg., Inc. (Comp) | Annville, KY | 12/06/06 | 11/28/06
60547 | Enterprise Die, Inc. (Wkrs) | Grandville, MI | 12/06/06 | 11/29/06
60548 | Alan White Company (Wkrs) | Sulligent, AL | 12/07/06 | 11/22/06
60549 | Blue Holdings, Inc. (State) | Commerce, CA | 12/07/06 | 11/27/06
60550 | V H Furniture Corporation (Comp) | Atkins, VA | 12/07/06 | 12/06/06
60551 | Haggar Clothing Company (Wkrs) | Dallas, TX | 12/07/06 | 12/05/06
60552 | American Specialty Cars, Inc. (Wkrs) | Livonia, MI | 12/07/06 | 12/05/06
60553 | Graftech (UCAR Carbon) (Comp) | Clarksville, TN | 12/07/06 | 12/07/06
60554 | Spectrum Brands, Inc. (Comp) | Fennimore, WI | 12/07/06 | 12/06/06
60555 | Beard Hosiery, Inc. (Wkrs) | Lenoir, NC | 12/07/06 | 12/07/06
60556 | Hitachi Electronic Devices (USA), Inc. (Comp) | Greenville, SC | 12/07/06 | 12/05/06
60557 | Burley Design (State) | Eugene, OR | 12/07/06 | 12/06/06
60558 | Super Value Distribution Center (Wkrs) | Pleasant Prairie, WI | 12/07/06 | 12/07/06
60559 | ESCO Company, Ltd. Partnership (State) | Muskegon, MI | 12/08/06 | 12/07/06
60560 | Electronic Data Systems (EDS) (Union) | Rochester, NY | 12/08/06 | 11/21/06
60561 | Aramark Uniform and Career Apparel (State) | Lawrenceville, GA | 12/08/06 | 12/07/06
60562 | Seagate (State) | Bloomington, MN | 12/08/06 | 12/07/06
60563 | General Chemical Performance Products—Gibbstown (Comp) | Gibbstown, NJ | 12/08/06 | 12/06/06
60564 | Lee Middleton Original Dolls, Inc. (Wkrs) | Belpre, OH | 12/08/06 | 11/21/06
60565 | Briggs and Stratton, P.P.G. (Wkrs) | Jefferson, WI | 12/08/06 | 11/20/06
60566 | E Trade Mortgage Corporation (Wkrs) | Coraopolis, PA | 12/08/06 | 12/06/06
60567 | Accordis Chicago Service Ctr. (Wkrs) | Chicago, IL | 12/08/06 | 12/04/06

[FR Doc. E6-21790 Filed 12-20-06; 8:45 am]

BILLING CODE 4510-30-P